DEPARTMENT OF COMMERCE

International Trade Adminstration

[A-570-051]

Certain Hardwood Plywood Products From the People's Republic of China: Amended Preliminary Determination of Sales at Less Than Fair Value

AGENCY: Enforcement and Compliance, International Trade Administration, Department of Commerce.

SUMMARY: On June 23, 2017 the Department of Commerce (Department) published the Preliminary Determination of sales at less than fair value (LTFV) in the antidumping duty investigation of certain hardwood plywood products (hardwood plywood) from the People's Republic of China (PRC). We are amending our Preliminary Determination to correct ministerial errors with respect to the identification of companies receiving a separate rate.

DATES: Applicable June 23, 2017.

FOR FURTHER INFORMATION CONTACT: Amanda Brings or Ryan Mullen, AD/CVD Operations, Office V, Enforcement and Compliance, International Trade Administration, U.S. Department of Commerce, 1401 Constitution Avenue NW., Washington, DC 20230; telephone: (202) 482-3927 or (202) 482-5260, respectively.

SUPPLEMENTARY INFORMATION: As noted above, on June 23, 2017, the Department published in the Federal Register the Preliminary Determination ¹ that hardwood plywood from the PRC is being, or is likely to be, sold in the United States at LTFV, as provided in section 733 of the Tariff Act of 1930, as amended (Act).² On June 20, 2017, Suqian Yaorun Trade Co., Ltd. (Suqian Yaorun), Shandong Anxin Timber Co., Ltd. (Shandong Anxin), Pizhou Jin Sheng Yuan International Trade Co., Ltd. (Pizhou Jin Sheng), Xuzhou Shuiwangxing Trading Co. (Shuiwangxing), and Cosco Star International Co., Ltd. (Cosco) (collectively, certain separate rate respondents) timely filed ministerial error allegations.³

¹ See Certain Hardwood Plywood Products from the People's Republic of China: Preliminary Affirmative Determination of Sales at Less Than Fair Value, Preliminary Affirmative Determination of Critical Circumstances, in Part, 82 FR 28629 (June 23, 2017) (Preliminary Determination).

² See Preliminary Determination.

³ See Letter to the Department re: Hardwood Plywood Products from the People's Republic of China: Ministerial-Error Comments on Separate Rate Applications, dated June 20, 2017 (Ministerial Error Comments).

Period of Investigation

The period of investigation (POI) is April 1, 2016, through September 30, 2016.

Scope of Investigation

The product covered by this investigation is hardwood plywood from the PRC. A complete description of the scope of this investigation in included in the Preliminary Determination.⁴

⁴ See Preliminary Determination at Appendix I.

Significant Ministerial Error

Pursuant to 19 CFR 351.224(e) and (g)(1), the Department is amending the Preliminary Determination to reflect the correction of significant ministerial errors it made in the margin assigned to certain separate rate respondents. A ministerial error is defined as errors in addition, subtraction, or other arithmetic function, clerical error resulting from inaccurate copying, duplication, or the like, and any other similar type of unintentional error which the Secretary considers ministerial.⁵ A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.⁶ As a result of this amended preliminary determination, we have added certain separate rate respondents to the list of exporters that received a separate rate or corrected typographical errors, as appropriate.⁷

⁵ See section 735(e) of the Act.

⁶ See 19 CFR 351.224(g).

⁷ See the “Amended Preliminary Determination” section below.

Ministerial Error Allegations

On June 20, 2017, certain separate rate respondents submitted ministerial error allegations claiming that the Department should have included exporters Suqian Yaorun and Shandong Anxin as separate rate recipients and that typographical errors were made to the spelling of the names of exporters Pizhou Jin Sheng and Shuiwangxing, and to the spelling of the name of one of exporter Cosco's producers, Pingyi Jinniu Wood Co., Ltd.⁸ The Department reviewed the record and agrees that we made certain typographical errors and omissions on the producer/exporter list for separate rate recipients constituting significant ministerial errors pursuant to 19 CFR 351.224(e) and (f). In their SRA, certain separate rate respondents submitted information supporting a preliminary finding of an absence of de jure and de facto government control.⁹ Accordingly, we preliminarily determine that certain separate rate respondents are eligible for a separate rate. Further, these errors are significant because the rate applicable to the certain separate rate respondents is improperly at the PRC-Wide rate of 114.72 percent, rather than at the correct separate rate of 57.36 percent, thus exceeding the significant error threshold because correction of these errors results in a change of at least five absolute percentage points.

⁸ See Ministerial Comments.

⁹

The collection of cash deposits and suspension of liquidation will be revised accordingly in accordance with section 733(d) and (f) of the Act and 19 CFR 351.224. Because the amended rates for certain separate rate respondents results in reduced cash deposit rates, the corrected rates for certain separate rate respondents will be effective retroactively to June 23, 2017, the date of publication of the Preliminary Determination.

Amended Preliminary Determination

As a result of this amended preliminary determination, we have revised the preliminary estimated weighted-average dumping margins as follows:

Exporter | Producer | Estimated weighted- average dumping margins (percent) | Cash deposit rate (percent)
Suqian Yaorun Trade Co., Ltd | Pizhou Jiangshan Wood Co., Ltd | 57.36 | 57.07
Suqian Yaorun Trade Co., Ltd | Suqian Bairun Wood Co., Ltd | 57.36 | 57.07
Shandong Anxin Timber Co., Ltd | Shandong Anxin Timber Co., Ltd | 57.36 | 57.07
Pizhou Jin Sheng Yuan International Trade Co., Ltd | Xuzhou Chengxin Wood Co., Ltd | 57.36 | 57.07
Pizhou Jin Sheng Yuan International Trade Co., Ltd | Xuzhou Golden River Wood Co., Ltd | 57.36 | 57.07
Xuzhou Shuiwangxing Trading Co., Ltd | Fengxian Jihe Wood Industry Co. Ltd | 57.36 | 57.07
Cosco Star International Co., Ltd | Pingyi Jinniu Wood Co., Ltd | 57.36 | 57.07

International Trade Commission Notification

In accordance with section 733(f) of the Act, we notified the International Trade Commission of our amended preliminary determination.

This amended preliminary determination is issued and published in accordance with sections 733(f) and 777(i)(1) of the Act and 19 CFR 351.224(e).

Dated: July 11, 2017.
Gary Taverman,
Deputy Assistant Secretary for Antidumping and Countervailing Duty Operations, performing the non-exclusive functions and duties of the Assistant Secretary for Enforcement and Compliance.

[FR Doc. 2017-14956 Filed 7-14-17; 8:45 am]

BILLING CODE 3510-DS-P